DEPARTMENT OF TRANSPORTATION

Coast Guard

33 CFR Part 117

[CGD01-01-156]

Drawbridge Operation Regulations: Annisquam River, Blynman Canal, MA

AGENCY: Coast Guard, DOT.

ACTION: Notice of temporary deviation from regulations.

SUMMARY: The Commander, First Coast Guard District, has issued a temporary deviation from the drawbridge operation regulations for the SR 127 Bridge, mile 0.0, across the Annisquam River, Blynman Canal, in Gloucester, Massachusetts. This deviation allows the bridge to remain in the closed position from November 5, 2001 through November 16, 2001, at various times, to facilitate the emergency repair of the bridge power supply cable.

DATES: This deviation is effective from November 5, 2001 through November 16, 2001.

FOR FURTHER INFORMATION CONTACT: John McDonald, Project Officer, First Coast Guard District, at (617) 223-8364.

SUPPLEMENTARY INFORMATION: The SR 127 Bridge, at mile 0.0, across the Annisquam River Blynman Canal in Gloucester, Massachusetts, has a vertical clearance of 7 feet at mean high water, and 16 feet at mean low water in the closed position.

The existing drawbridge operation regulations require the draw to open on signal at all times except at Christmas and New Years eve and day when the bridge operates on a two-hour advance notice.

The bridge owner, Massachusetts Highway Department, requested a temporary deviation from the drawbridge operating regulations to facilitate the emergency repair of the bridge power supply cable.

The contractor must work five eight-hour days from November 5, 2001 through November 9, 2001, during daylight hours, at slack tide in order to excavate the underwater trench for the new power supply cable. The working hours will vary each day depending upon the time period that slack tide occurs. During these eight-hour work periods each day the bridge will not open for vessel traffic; however, the bridge will operate according to its normal schedule, opening on demand, for the remaining sixteen hours each day.

Additionally, the bridge will remain in the closed position to navigation from 7 a.m., Monday, November 12, 2001 through midnight on Friday, November 16, 2001, to change over to the new cable and connect all the power supply wires at the bridge.

This deviation to the operating regulations allows the owner of the SR 127 Bridge to keep the bridge in the closed position eight-hours a day during daylight hours at slack tide from November 5, 2001 through November 9, 2001 and to keep the bridge in the closed position from 7 a.m. on November 12, 2001 through midnight on November 16, 2001.

This deviation from the operating regulations is authorized under 33 CFR 117.35 and will be performed with all due speed in order to return the bridge to normal operation as soon as possible.

Dated: September 27, 2001.
G.N. Naccara,
Rear Admiral, U.S. Coast Guard, Commander, First Coast Guard District.

[FR Doc. 01-25286 Filed 10-5-01; 8:45 am]

BILLING CODE 4910-15-U